DEPARTMENT OF THE INTERIOR

National Park Service

[NPS-WASO-NAGPRA-18306]; [PPWOCRADN0-PCU00RP15.R50000]

Notice of Inventory Completion: U.S. Department of the Interior, National Park Service, Petrified Forest National Park, Petrified Forest, AZ; Correction

AGENCY: National Park Service, Interior.

ACTION: Notice; correction.

SUMMARY: The U.S. Department of the Interior, National Park Service, Petrified Forest National Park has corrected a Notice of Inventory Completion published in the Federal Register on April 28, 2015. This notice corrects the list of The Invited Tribes.

ADDRESSES: Brad Traver, Superintendent, Petrified Forest National Park, Box 2217, Petrified Forest, AZ 86028, telephone (928) 524-6228 x225, email brad_traver@nps.gov.

SUPPLEMENTARY INFORMATION: Notice is here given in accordance with the Native American Graves Protection and Repatriation Act (NAGPRA), 25 U.S.C. 3003, of the correction of a Notice of Inventory Completion for human remains and associated funerary objects under the control of the U.S. Department of the Interior, National Park Service, Petrified Forest National Park, Petrified Forest, AZ.

This notice is published as part of the National Park Service's administrative responsibilities under NAGPRA, 25 U.S.C. 3003(d)(3). The determinations in this notice are the sole responsibility of the Superintendent, Petrified Forest National Park.

This notice corrects the list of The Invited Tribes published in a Notice of Inventory Completion in the Federal Register (80 FR 23573, April 28, 2015). The Pueblo of Acoma, New Mexico was inadvertently included in both The Consulted Tribes and The Invited Tribes, rather than just The Consulted Tribes.

Correction

In the Federal Register (80 FR 23573, April 28, 2015), paragraph seven is corrected by removing Pueblo of Acoma, New Mexico.

Petrified Forest National Park is responsible for notifying The Consulted Tribes and The Invited Tribes that this notice has been published.

Dated: May 11, 2015.
Mariah Soriano,
Acting Manager, National NAGPRA Program.

[FR Doc. 2015-14108 Filed 6-8-15; 8:45 am]

BILLING CODE 4312-50-P